DEPARTMENT OF THE INTERIOR

Bureau of Land Management

[LLWO320000L1320000.PP; OMB Control Number 1004-0132]

Renewal of Approved Information Collection

AGENCY: Bureau of Land Management, Interior.

ACTION: 30-Day Notice and request for comments.

SUMMARY: The Bureau of Land Management (BLM) has submitted an information collection request to the Office of Management and Budget (OMB) for a 3-year renewal of OMB Control Number 1004-0132 under the Paperwork Reduction Act. This control number includes paperwork requirements in 43 CFR parts 3200 and 3280, which cover management of Federal geothermal resources.

DATES: The OMB is required to respond to this information collection request within 60 days but may respond after 30 days. Therefore, written comments should be received on or before August 5, 2010.

ADDRESSES: Submit comments directly to the Desk Officer for the Department of the Interior (OMB #1004-0132), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240. Please send a copy of your comments by electronic mail to jean_sonneman@blm.gov or by fax to Jean Sonneman at 202-912-7102.

FOR FURTHER INFORMATION CONTACT: You may contact Barbara Gamble at 202-912-7148. Persons who use a telecommunication device for the deaf (TDD) may call the Federal Information Relay Service (FIRS) on 1-800-877-8339, to contact Ms. Gamble. You may also contact Ms. Gamble to obtain a copy, at no cost, of the regulations and forms that require this collection of information.

SUPPLEMENTARY INFORMATION: The following information is provided for the information collection:

Title: Geothermal Resource Leasing and Geothermal Resources Unit Agreements (43 CFR parts 3200 and 3280).

Forms:

• Form 3200-9, Notice of Intent to Conduct Geothermal Resource Exploration Operations;

• Form 3203-1, Nomination of Lands for Competitive Geothermal Leasing;

• Form 3260-2, Geothermal Drilling Permit;

• Form 3260-3, Geothermal Sundry Notice;

• Form 3260-4, Geothermal Well Completion Report; and

• Form 3260-5, Monthly Report of Geothermal Operations.

OMB Control Number: 1004-0132.

Type of Review: Revision of a currently approved information collection.

Abstract: Various statutes (such as 30 U.S.C. 1001—1028) authorize the Secretary of the Interior to issue leases for the development and utilization of geothermal resources. The BLM implements these statutory authorities in accordance with regulations at 43 CFR parts 3200 and 3280. The information collected under these regulations enables the BLM to make decisions regarding geothermal leases and unit agreements. It also enables the BLM to monitor compliance with the terms and conditions of leases and unit agreements. Responses are required to obtain or maintain a benefit.

Frequency of Collection: On occasion for all aspects of this information collection except 43 CFR subpart 3276, Monthly Report of Geothermal Operations.

Annual Burden Hours: 5,404 hours.

Annual Non-hour Burden Cost: $72,810 for document processing fees associated with some of these information collection requirements.

The following table details the individual components and respective hour burden estimates of this information collection request:

Type of response | Number of responses | Hours per response | Total hours
A | B | C | D
43 CFR subpart 3202; Lessee Qualifications | 75 | 1 | 75
43 CFR subpart 3203; Nomination of Lands for Competitive Leasing; Form 3203-1 | 80 | 1 | 80
43 CFR subpart 3204; Noncompetitive Leasing Other Than Direct Use Leases | 50 | 4 | 200
43 CFR subpart 3205; Direct Use Leasing | 10 | 10 | 100
43 CFR subpart 3206; Lease Issuance | 155 | 1 | 155
43 CFR subpart 3207; Lease Terms and Extensions | 50 | 1 | 50
43 CFR subpart 3210; Lease Consolidation | 50 | 1 | 50
43 CFR subpart 3212; Lease Suspensions and Royalty Rate Reductions | 10 | 40 | 400
43 CFR subpart 3213; Lease Relinquishment, Termination, Cancellation, and Reinstatement | 10 | 40 | 400
43 CFR subpart 3217; Cooperative Agreements | 10 | 40 | 400
43 CFR subpart 3251; Notice of Intent to Conduct Geothermal Exploration Activities; Form 3200-9 | 12 | 8 | 96
43 CFR subpart 3252; Geothermal Sundry Notice; Form 3260-3 | 100 | 8 | 800
43 CFR subpart 3253; Reports: Exploration Operations | 12 | 8 | 96
43 CFR subpart 3256; Exploration Operations Relief and Appeals | 10 | 8 | 80
43 CFR subpart 3261; Geothermal Drilling Permit; Form 3260-2 | 60 | 8 | 480
43 CFR subpart 3264; Geothermal Well Completion Report; Form 3260-4 | 12 | 10 | 120
43 CFR subpart 3272; Utilization Plans and Facility Construction Permits | 10 | 10 | 100
43 CFR subpart 3273; Site License Application | 10 | 10 | 100
43 CFR subpart 3273; Assignment or Transfer of a Site License | 22 | 1 | 22
43 CFR subpart 3274; Commercial Use Permit | 10 | 10 | 100
43 CFR subpart 3276; Monthly Report of Geothermal Operations; Form 3260-5 | 120 | 10 | 1,200
43 CFR subpart 3281; Unit Agreements | 10 | 10 | 100
43 CFR subpart 3282; Participating Area | 10 | 10 | 100
43 CFR subpart 3283; Unit Agreement Modifications | 10 | 10 | 100
Totals | 908 |  | 5,404

60-Day Notice: As required in 5 CFR 1320.8(d), the BLM published the 60-day notice in the Federal Register on February 3, 2010 (75 FR 5623) soliciting comments from the public and other interested parties. The comment period closed on April 5, 2010. The BLM did not receive any comments from the public in response to this notice, and did not receive any unsolicited comments from respondents.

The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0132 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-16357 Filed 7-2-10; 8:45 am]

BILLING CODE 4310-84-P